DEPARTMENT OF ENERGY

Federal Energy Regulatory Commission

[Docket No. CP06-26-000]

Dominion Cove Point LNG, LP; Notice of Application

November 28, 2005.

Take notice that on November 16, 2005, Dominion Cove Point LNG, LP (Cove Point LNG) filed an application in Docket No. CP06-26-000, pursuant to section 3 of the Natural Gas Act, for authority to construct, install, own, operate and maintain certain facilities at the Cove Point LNG import terminal at Cove Point, Maryland (Air Separation Unit Project). The details of this proposal are more fully set forth in the application that is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding this application should be directed to Anne E. Bomar, Managing Director, Transmission, Rates and Regulation, Dominion Resources, Inc., 120 Tredegar Street, Richmond, Virginia 23219, or by phone at (804) 819-2134.

Cove Point LNG says that the Air Separation Unit Project is designed to add two air separation units, a liquid nitrogen storage tank, an electric generation unit, and appurtenant facilities at the Cove Point LNG import terminal. This project will increase Cove Point LNG's ability to inject nitrogen into the vaporized liquefied natural gas as necessary to meet the tariff requirements for gas quality contained in the Cove Point LNG's tariff. Cove Point LNG requests that the Commission grant the requested authorization at the earliest practicable date, in order to ensure an in-service date of January 2008.

Cove Point LNG says that the facilities proposed in the Cove Point Air Separation Unit Project will also enhance the reliability of service at the terminal and provide the Rate Schedule LTD-1 customers with more flexibility to acquire and schedule cargoes of LNG from a wider variety of supply sources. Cove Point LNG says that the Air Separation Unit Project also will not result in any change to the gas quality specifications contained in Cove Point's tariff, including the BTU level and nitrogen content specified in those provisions.

Cove Point LNG says that it intends to make a subsequent, limited Natural Gas Act Section 4 filing to adjust the currently effective LTD-1 settlement rates to reflect the costs of the Air Separation Unit Project. Further, Cove Point LNG does not seek Commission approval of the Air Separation Unit Project rates in the instant proceeding; however, it requests that the Commission find in this proceeding that: (1) The proposed facilities are prudently designed and appropriately sized to provide the requested nitrogen injection capacity; (2) the costs of the proposed facilities, about $ 63 million, are reasonable; and (3) the proposed rate treatment for the costs of the Air Separation Unit Project as shown on Exhibit Z is reasonable. Cove Point LNG is proposing an Air Separation Unit Project surcharge in the LTD rate schedules with a reservation charge of $ 1.5990 per Dth in the LTD-1 Rate Schedule and a maximum commodity charge of $ 0.0526 per Dth in the LTD-2 Rate Schedule.

On October 7, 2005, the Commission issued new rules which generally require that projects involving liquefied natural gas terminals follow mandatory procedures requiring prospective applicants to begin the Commission's pre-filing review process at least six months prior to filing an application for any siting or construction authorizations. (See Order No. 665, new rules at 18 CFR 157.21) However, based on an October 25, 2005 request by Cove Point LNG under section 157.21(e)(2) of the new rules, the Director of the Commission's Office of Energy Projects made a finding and determination on November 14, 2005, that the pre-filing review process would not apply to Cove Point LNG's Air Separation Unit Project.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the Natural Gas Act (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: December 16, 2005.

Magalie R. Salas,
Secretary.

[FR Doc. E5-6927 Filed 12-6-05; 8:45 am]

BILLING CODE 6717-01-P